DEPARTMENT OF THE INTERIOR

Fish and Wildlife Service

[FWS-R2-ES-2013-N248; FRES480102200B0-XXX-FF02ENEH00]

Proposed Information Collection; Survey of Rancher Knowledge and Attitudes About Jaguar Habitat Conservation in Southern Arizona

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by February 18, 2014.

ADDRESSES: Send your comments on the IC to the Service Information Collection Clearance Officer, U.S. Fish and Wildlife Service, MS 2042-PDM, 4401 North Fairfax Drive, Arlington, VA 22203 (mail); or hope_grey@fws.gov (email). Please include “1018-Landowner” in the subject line of your comments.

FOR FURTHER INFORMATION CONTACT: To request additional information about this IC, contact Hope Grey at hope_grey@fws.gov (email) or 703-358-2482 (telephone).

SUPPLEMENTARY INFORMATION:

I. Abstract

We have contracted with the University of Arizona to conduct a survey of approximately 300 southern Arizona landowners, ranchers, and ranch managers to determine their knowledge of and attitudes toward jaguar habitat, the level of knowledge regarding payments for ecosystem services, and attitudes and interest toward a payment for ecosystem services intended to benefit jaguar habitat. This survey is necessary because there is currently no statistically significant information available about rancher attitudes toward jaguar habitat or their understanding of payments for ecosystem services.

The survey will improve landowner knowledge on these issues and will inform our evaluation of the practicality of a payment for ecosystem services for the benefit of jaguar habitat in southern Arizona. It will also aid in the implementation of jaguar habitat conservation efforts by increasing our knowledge of landowner, rancher, and ranch manager attitudes toward jaguars and jaguar habitat management in southern Arizona.

Information collected in the survey will include data on knowledge of jaguar habitat attributes, opinions and attitudes about the designation of critical habitat in southern Arizona, knowledge of payment for ecosystem services programs generally, and opinions and attitudes about participation in payment for ecosystem services programs.

II. Data

OMB Control Number: 1018-None. This is a new collection.

Title: Survey of Rancher Knowledge and Attitudes about Jaguar Habitat Conservation in Southern Arizona.

Service Form Number: None.

Type of Request: Request for a new OMB control number.

Description of Respondents: Individuals.

Respondent's Obligation: Voluntary.

Frequency of Collection: One time.

Estimated Number of Annual Responses: 200.

Estimated Completion Time per Response: 20 minutes.

Estimated Total Annual Burden Hours: 67.

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: December 12, 2013.
Tina A. Campbell,
Chief, Division of Policy and Directives Management, U.S. Fish and Wildlife Service.

[FR Doc. 2013-29922 Filed 12-16-13; 8:45 am]

BILLING CODE 4310-55-P